DEPARTMENT OF TRANSPORTATION

Federal Railroad Administration

[Docket No. FRA 2010-0005-N-9]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than June 21, 2010.

ADDRESSES: Submit written comments on any or all of the following proposed activities by mail to either: Mr. Robert Brogan, Office of Safety, Planning and Evaluation Division, RRS-21, Federal Railroad Administration, 1200 New Jersey Ave., SE., Mail Stop 17, Washington, DC 20590, or Ms. Kimberly Toone, Office of Information Technology, RAD-20, Federal Railroad Administration, 1200 New Jersey Ave., SE., Mail Stop 35, Washington, DC 20590. Commenters requesting FRA to acknowledge receipt of their respective comments must include a self-addressed stamped postcard stating, “Comments on OMB control number _______.” Alternatively, comments may be transmitted via facsimile to (202) 493-6216 or (202) 493-6497, or via e-mail to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 17, Washington, DC 20590 (telephone: (202) 493-6292) or Ms. Kimberly Toone, Office of Information Technology, RAD-20, Federal Railroad Administration, 1200 New Jersey Ave., SE., Mail Stop 35, Washington, DC 20590 (telephone: (202) 493-6132). (These telephone numbers are not toll-free.)

SUPPLEMENTARY INFORMATION:

The Paperwork Reduction Act of 1995 (PRA), Public Law 104-13, § 2, 109 Stat. 163 (1995) (codified as revised at 44 U.S.C. 3501-3520), and its implementing regulations, to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of three currently approved information collection activities that FRA will submit for clearance by OMB as required under the PRA:

Title: Filing of Dedicated Cars.

OMB Control Number: 2130-0502.

Abstract: Title 49, Part 215 of the Code of Federal Regulations, prescribes certain conditions to be followed for the movement of freight cars that are not in compliance with this Part. Dedicated service means the exclusive assignment of railroad cars to the transportation of freight between specified points under the following conditions: (1) The cars are operated primarily on track that is inside an industrial or other non-railroad installation; and only occasionally over track of a railroad; (2) The cars are not operated at speeds of more than 15 miles per hour; and over track of a railroad—(A) for more than 30 miles in one direction; or (B) on a round trip for more than 60 miles; (3) The cars are not freely interchanged among railroads; (4) The words “Dedicated Service” are stenciled, or otherwise displayed, in clear legible letters on each side of the car body; and (5) The cars have been examined and found safe to operate in dedicated service. These cars must be identified in a written report to FRA before they are assigned to dedicated service, and these reports must be filed with FRA 30 days before the cars operate in dedicated service. FRA uses the information collected under § 215.5(d) to determine the number of railroads affected, the number and type of cars involved, the commodities being carried, and the territorial and speed limits within which the cars will be operated. FRA reviews these reports to determine if the equipment is safe to operate and if the operation qualifies for dedicated service. The information collected indicates to FRA inspectors that the particular or “dedicated” car is in special service and that certain exceptions have been provided for regarding the application of this regulation spelled out in § 215.3. Cars not in compliance with § 215.5(d) will be cited for violations by FRA inspectors. The information collected is also used by railroads to provide identification and control so that dedicated cars remain in the prescribed service.

Form Number(s): N/A.

Affected Public: Businesses.

Respondent Universe: 728 railroads.

Frequency of Submission: On occasion.

Total Estimated Responses: 4.

Total Estimated Annual Burden: 4 hours.

Status: Extension of a Currently Approved Collection.

Title: Hours of Service Regulations.

OMB Control Number: 2130-0005.

Abstract: The collection of information is due to the railroad hours of service regulations set forth in 49 CFR Part 228 which require railroads to collect the hours of duty for covered employees, and records of train movements. Railroads whose employees have exceeded maximum duty limitations must report the circumstances. Also, a railroad that has developed plans for construction or reconstruction of sleeping quarters (Subpart C of 49 CFR Part 228) must obtain approval of the Federal Railroad Administration (FRA) by filing a petition conforming to the requirements of Sections 228.101, 228.103, and 228.105.

Affected Public: Businesses.

Respondent Universe: 720 railroads.

Frequency of Submission: On occasion; monthly.

Reporting Burden
CFR section | Respondent universe | Total annual responses | Average time per response | Total annual burden hours
228.11—Hours of Duty Records | 720 railroads | 29,893,500 records | 2 min./5 min./10 minutes | 3,049,210
228.17—Dispatchers of Train Movements | 150 dispatch offices | 200,750 records | 3 hours | 602,250
228.19—Monthly Reports of Excess Service | 300 railroads | 2,640 reports | 2 hours | 5,280
228.103—Construction of Employee Sleeping Quarters | 50 railroads | 1 petition | 16 hours | 16
228.203—Program Components | 9 railroads | 5 adjusted programs + 1 newly developed program | 120 hours; 720 hours | 1,320
—Development of Electronic Recordkeeping System w/required Security and Search Capability.
228.205—Access to Electronic Records | 720 railroads | 100 electronic records access procedures | 30 minutes | 50
—RR Procedures.
228.207—Training | 720 railroads/signal contractors | 47,000 trained employees | 1 hour | 47,000
—Initial Training in Use of Electronic System | 720 railroads/signal contractors | 2,200 trained employees | 1 hour | 2,200
—Refresher Training in Use of Electronic System.
49 U.S.C.21102—Hours of Service Act | 10 railroads | 2 petitions | 10 hours | 20
—Exemptions from Laws Requirements.

Total Responses: 30,145,699.

Estimated Total Annual Burden: 3,707,346 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on April 14, 2010.
Kimberly Coronel,
Director, Office of Financial Management, Federal Railroad Administration.

[FR Doc. 2010-9105 Filed 4-20-10; 8:45 am]

BILLING CODE 4910-06-P